NUCLEAR REGULATORY COMMISSION

[Docket No. 040-08502]

Notice of Availability of Environmental Assessment and Finding of No Significant Impact for License Amendment Request To Revert to Operating Status From Restoration and Decommissioning Status, Cogema Mining Inc., Christensen and Irigaray Ranch Facilities, Johnson and Campbell Counties, WY

AGENCY: Nuclear Regulatory Commission.

ACTION: Notice of availability.

FOR FURTHER INFORMATION CONTACT: Ron C. Linton, Project Manager, Uranium Recovery Licensing Branch, Division of Waste Management and Environmental Protection, Office of Federal and State Materials and Environmental Management Programs, U.S. Nuclear Regulatory Commission, Washington, DC 20555. Telephone: 301-415-7777; fax number: 301-415-5369; e-mail: ron.linton@nrc.gov.

SUPPLEMENTARY INFORMATION:

I. Introduction

The Nuclear Regulatory Commission (NRC) is issuing a license amendment to source Materials License No. SUA-1341 issued to Cogema Mining, Inc. (COGEMA) (the licensee), to authorize a return to uranium production operations and the recovery of uranium by in situ leach (ISL) extraction techniques as previously licensed by the NRC at its Christensen and Irigaray Ranch Facilities, Johnson and Campbell Counties, Wyoming. NRC has prepared an Environmental Assessment (EA) in support of this amendment in accordance with the requirements of 10 CFR Part 51. Based on the EA, the NRC has concluded that a Finding of No Significant Impact (FONSI) is appropriate. The amendment will be issued following the publication of this Notice.

II. EA Summary

On April 3, 2007, COGEMA requested that NRC approve an amendment to authorize a return to uranium production operations and the recovery of uranium by ISL extraction techniques at the licensee's Christensen and Irigaray Ranch facilities in Johnson and Campbell Counties, Wyoming. Specifically, COGEMA's source materials license will be amended to allow for the resumption of uranium recovery operations by the injection of lixiviant with license conditions that are essentially the same as those contained in the last operational license, SUA-1341, Amendment 3. COGEMA's request for the proposed amendment was noticed in the Federal Register on March 17, 2008, with a notice of an opportunity to request a hearing. The Federal Register notice of an opportunity to request a hearing was also posted on NRC's public Web site under “Hearing Opportunities and License Applications.” No hearing requests were received.

The staff has prepared the EA in support of the proposed license amendment. The NRC staff found that the type of impacts would be similar to those that already exist and that have been evaluated in previous environmental reviews. The staff reviewed impacts to land use, transportation, geology and soils, ecology, air quality, noise, cultural and historical resources, visual and scenic resources, socioeconomic resources, public and occupational health, and waste management. All impacts were found to be low with the exception of some moderate short-term visual impacts to the Pumpkin Buttes which have been determined by the Bureau of Land Management to be a Native American traditional cultural property.

III. Finding of No Significant Impact

On the basis of the EA, NRC has concluded that there are no significant environmental impacts from the proposed amendment, and that preparation of an environmental impact statement is not warranted.

IV. Further Information

Documents related to this action, including the application for amendment and supporting documentation, are available electronically at the NRC's Electronic Reading Room at http://www.nrc.gov/reading-rm/adams.html. From this site, you can access the NRC's Agencywide Document Access and Management System (ADAMS), which provides text and image files of NRC's public documents. The ADAMS accession numbers for the documents related to this notice are: ML071020274, Letter from T. Hardgrove, COGEMA Mining, Re: Request for Amendment to License SUA-1341 for Restart of Irigaray/Christensen Ranch Facilities; ML082110026, Environmental Assessment Regarding the License Amendment Request to Return to Operating Status from Decommissioning Status Cogema Mining, Inc. Irigaray and Christensen Ranch Projects Wyoming. If you do not have access to ADAMS or if there are problems in accessing the documents located in ADAMS, contact the NRC Public Document Room (PDR) Reference staff at 1-800-397-4209, 301-415-4737 or by e-mail to pdr.resource@nrc.gov.

These documents may also be viewed electronically on the public computers located at the NRC's Public Document Room (PDR), O 1 F21, One White Flint North, 11555 Rockville Pike, Rockville, Maryland 20852. The PDR reproduction contractor will copy documents for a fee.

Dated at Rockville, Maryland, this 8th day of September 2008.
For The Nuclear Regulatory Commission.
Keith I. McConnell,
Deputy Director, Decommissioning and Uranium Recovery, Licensing Directorate, Division of Waste Management, and Environmental Protection, Office of Federal and State Materials and Environmental Management Programs.

[FR Doc. E8-21275 Filed 9-11-08; 8:45 am]

BILLING CODE 7590-01-P